DEPARTMENT OF COMMERCE

Census Bureau

Agency Information Collection Activities; Submission to the Office of Management and Budget (OMB) for Review and Approval; Comment Request; 2020 Post-Census Group Quarters Review

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on a proposed new information collection, the 2020 Post-Census Group Quarters Review, prior to the submission of the information collection request (ICR) to OMB for approval.

DATES: To ensure consideration, comments regarding this proposed information collection must be received on or before January 18, 2022.

ADDRESSES: Interested persons are invited to submit written comments by email to DCMD.PCGQR@census.gov. Please reference 2020 Post-Census Group Quarters Review in the subject line of your comments. You may also submit comments, identified by Docket Number USBC-2021-0025 to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Sonia Collazo, Supervisory Statistician, 301-763-3350, and sonia.g.collazo@census.gov.

SUPPLEMENTARY INFORMATION:

I. Abstract

The 2020 Post-Census Group Quarters Review (2020 PCGQR) provides a mechanism for tribal, state, and local governmental units in the United States and Puerto Rico, or their designated representatives, to submit a request that the Census Bureau review their population counts for group quarter facilities by block to correct error(s) affecting the inclusion of group quarters and their population from the 2020 Census.

The Census Bureau has a comprehensive program to improve the quality of the population counts. For example, the Census Bureau provides an opportunity for tribal, federal, state, and local governments to review and improve the address lists and maps used to conduct the 2020 Census through the Local Update of Census Addresses program. In 2020, the Census Bureau used administrative records to classify some addresses as occupied, vacant, or nonresidential for enumeration. The Census Bureau also conducts the Population Estimates Program to calculate population change since the most recent decennial census and produce a time series of estimates of population, demographic components of change, and housing units. Beginning in January 2022, the Census Bureau will begin accepting and processing challenges submitted by eligible tribal, state, and local government officials through the Count Question Resolution (CQR) Program. The purpose of CQR is to provide a mechanism for governmental units to request a review of their official Census results and to help ensure that housing and population counts are correctly allocated to census tabulation blocks in the 50 states, District of Columbia and Puerto Rico. CQR provides corrected counts for housing units and population counts existing as of April 1 of the decennial year when the decennial census record shows that a housing unit or its associated population was identified during the enumeration, but erroneously excluded from or included in the census count due to a processing error. As part of the preparation for the 2020 CQR program, the Census Bureau published a Federal Register Notice on August 4, 2020 (85 FR 47162). The Census Bureau received several comments urging the Census Bureau to expand the CQR program in 2020 to accept and process submissions of population counts for group quarters facilities that the eligible governmental unit believed was not collected by the Census Bureau in the 2020 decennial census enumeration. Because the CQR program cannot be an extension of the decennial enumeration, the Census Bureau was unable to make changes to CQR consistent with these comments. However, the Census Bureau considered these comments in conjunction with its comprehensive program to improve the quality of the group quarters and associated population counts and the use of administrative records to support Census Bureau programs under Title 13, United States Code. The Census Bureau will conduct a 2020 PCGQR to collect information in support of its ongoing programs, such as the Population Estimates program and the American Community Survey program. The Census Bureau will issue certified population correction counts, as determined by Census Bureau research. The Census Bureau will incorporate all 2020 PCGQR revisions into the intercensal population estimates and American Community Survey estimates starting in 2022 and will post the results on the Census Bureau 2020 PCGQR website.

II. Method of Collection

The Census Bureau will accept 2020 PCGQR cases submitted by tribal, state, and local governmental units from Spring 2022 through Summer 2023. Governmental units wanting to submit a case will be provided an Excel spreadsheet template that will be submitted through the Census Bureau's Secure Web Incoming Module (SWIM). The Census Bureau will only accept cases that initiate from the highest elected or appointed official of tribal, state, and local governmental units, or their designated representative. Regardless of who makes the case submission, the Census Bureau must receive notification from the highest elected or appointed official of the governmental unit that indicates they want the Census Bureau to review their population counts for group quarter facilities data through the 2020 PCGQR process. This level of notification assures the Census Bureau that the highest level of leadership is informed and in agreement with filing a case on behalf of the governmental unit. The notification must accompany the supporting documentation submitted with the case.

While the 2020 PCGQR is not an extension of the CQR or the decennial census program, the Census Bureau will conduct 2020 PCGQR case research by examining the census records for the 2020 tabulation block(s) identified in a 2020 PCGQR case using the Master Address File. All boundaries in the published 2020 Census results are current as of January 1, 2020, and all group quarters and population counts are current as of April 1, 2020; therefore, any changes to counts that occurred past those dates are out of scope. These standards will ensure that the information submitted as part of a 2020 PCGQR case is consistent with existing Census Bureau records, which will allow the Census Bureau to use the submitted records in other Census Bureau programs, such as the Population Estimates Program and American Community Survey. No new decennial information products will be created by the 2020 PCGQR. The Census Bureau will not revise any 2020 Census information products, such as the population counts delivered to the President for apportionment or the 2020 Census Public Law 94-171 Redistricting Data Files and Geographic Products. Federal law requires decennial census data collection to end; therefore, the Census Bureau cannot continue collecting information for the decennial census through a 2020 PCGQR.

When a submission is received, the Census Bureau will conduct research and assess the records contained in that submission for quality. Once the Census Bureau completes this research and assessment, the Census Bureau will respond to the governmental unit in writing with an official determination letter. This determination letter will state how the case was resolved and information on the resolution, such as, if the Census Bureau will or will not accept the records. If the Census Bureau's research and assessment determines that a submission identifies existing group quarters and its associated population counts, then the Census Bureau will accept the records and update populations counts for the governmental unit for use in Census Bureau programs, as appropriate. The Census Bureau will issue certified population count corrections, which governmental units can use for any purpose requiring their official Census counts. The Census Bureau will incorporate all 2020 PCGQR revisions into the intercensal population estimates and American Community Survey estimates starting in 2022 and will post the new counts on our website. The Census Bureau will attempt to respond to each inquiry within 90 days of receipt and complete all case research and resolution by no later than September 30, 2023.

III. Data

OMB Control Number: 0607-XXXX.

Form Number(s): None.

Type of Review: Regular submission, New Information Collection.

Affected Public: Tribal, State or Local governmental units in the United States and Puerto Rico.

Estimated Number of Respondents: 1,500.

Estimated Time per Response: 5.2 hours.

Estimated Total Annual Burden Hours: 7,800.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. Section 6.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-25283 Filed 11-18-21; 8:45 am]

BILLING CODE 3510-07-P